DEPARTMENT OF COMMERCE

National Oceanic and Atmospheric Administration

[Docket No. 000616179-1190-02]

RIN: 0648-ZA90

Office of Research and Applications Ocean Remote Sensing Program Notice of Financial Assistance

AGENCY: National Oceanic and Atmospheric Administration (NOAA), National Environmental Satellite, Data, and Information Service (NESDIS).

ACTION: Notice of availability of Federal assistance.

SUMMARY: The NESDIS Office of Research and Applications (ORA) announces the availability of Federal assistance in the area of satellite oceanography. This program responds to a need for research and activities that expand the use of and improve access to satellite oceanographic data. Funded proposals will help build capabilities nationwide in the application of satellite oceanographic data to environmental monitoring and prediction and coastal management as well as guide the development of future oceanographic satellite systems.

DATES: Proposals with a completed Grants Applications Package must be postmarked on or before October 22, 2001. Final selection is anticipated to be completed by approximately January 25, 2002. The earliest anticipated start date is June 1, 2002. To verify the date actually sent, applicants must request and include with the application either a legibly dated U.S. Postal Service postmark or a legibly dated receipt from a commercial carrier or U.S. Postal Service. Private metered postmarks shall not be acceptable proof of timely mailing.

Late Applications: Applications that do not meet the proposal deadline above will be considered late. Late applications will not be considered, and will be returned to the applicant.

ADDRESSES: Send all proposals to the Office of Research and Applications; NOAA/NESDIS; 5200 Auth Road; Room 711; Camp Springs, MD 20746-4304. Proposals should cite this Notice and be sent to the attention of William Pichel, Office of Research and Applications.

FOR FURTHER INFORMATION CONTACT: Administrative questions should be directed to Kathy LeFevre, (301) 763-8127 or Kathy.Lefevre@noaa.gov. Technical point of contact is William Pichel, (301) 763-8231 or William.G.Pichel@noaa.gov.

SUPPLEMENTARY INFORMATION:

Award Arrangement

Selected recipients will either receive a grant, or enter into a cooperative agreement with ORA, depending upon the amount of the Office's involvement in the project. A grant will be awarded where the proposed work is considered substantially independent work. A cooperative agreement will be implemented where there is substantial involvement by ORA in the proposed work.

NOAA Grants Application Package

All applicants are required to submit a NOAA Grants Application Package with the project proposal. The standard NOAA grants application forms can be obtained from the NOAA Website at http://www.rdc.noaa.gov/~grants/index.html. If Internet access is not available, forms can be obtained by mail by contacting the NOAA/NESDIS/ORA at (301) 763-8102. All Grants Application Packages must include Forms SF-424, SF-424A, SF-424B, and CD-511. If applicable, applicants must also include Anti-lobbying Disclosure Form SF-LLL, and Lower-Tier Certification Form CD-512. To determine SF-LLL and CD-512 applicability, applicants are directed to the “General Information for All Programs” section of this notice, Anti-lobbying Disclosures and Lower-Tier Certifications subheadings.

Funding Availability

FY 2002 funding for this program will be contingent upon the availability of funds but is anticipated to be approximately $400,000. Individual awards for FY 2002 are expected to range from a minimum of $50,000 up to $150,000, although successful proposals that are deemed to be exceptionally meritorious by the Selection Panel may be larger. There is no guarantee that all the areas of research interest identified in this Notice will be able to receive funding consideration.

Minority Serving Institutions

Pursuant to Executive Orders 12876, 12900, and 13021, the Department of Commerce, National Oceanic and Atmospheric Administration (DOC/NOAA) is strongly committed to broadening the participation of Historically Black Colleges and Universities (HBCU), Hispanic Serving Institutions (HSI), and Tribal Colleges and Universities (TCU) in its educational and research programs. The DOC/NOAA vision, mission, and goals are to achieve full participation by Minority Serving Institutions (MSI) in order to advance the development of human potential, to strengthen the Nation's capacity to provide high-quality education, and to increase opportunities for MSIs to participate in and benefit from Federal Financial Assistance programs. DOC/NOAA encourages all applicants to include meaningful participation of MSIs.

Authority

Statutory authority for these programs is provided under 33 U.S.C. 1442 (Research program respecting possible long-range effects of pollution, overfishing, and man-induced changes of ocean ecosystems); and 49 U.S.C. 44720 (Meteorological Services).

Catalog of Federal Domestic Assistance (CFDA)

This program is listed in the Catalog of Federal Domestic Assistance under Number 11.440 (Research in Remote Sensing of the Earth and Environment).

General Information

Environmental prediction, assessment, and the conservation and management of coastal and oceanic resources are among NOAA's primary functions. NESDIS, one of the five principal offices within NOAA, is the world's largest civil, operational environmental space organization and operates the Nation's civil geostationary and polar-orbiting environmental satellites. NESDIS also facilitates the acquisition of non-U.S. environmental satellite data through international agreements. Satellite systems provide data and information that are critical to weather forecasting; natural disaster response and mitigation; climate change forecasts and research; living and non-living marine resources management; and coastal and open ocean oceanographic research. ORA provides overall guidance and direction to the oceanic, atmospheric, and climate research and applications activities of NESDIS. The Ocean Remote Sensing Program, managed by ORA's Oceanic Research and Applications Division, has as its goal to help build capabilities nationwide to make expanded and improved use of earth-orbiting satellite data and information. The Program has particular interest in activities relating to sustaining healthy coasts, building sustainable fisheries, recovering protected species, providing improved environmental forecasts, and preparing for future NOAA operational satellite missions.

Program Description

The Ocean Remote Sensing Program seeks to expand the use of and improve access to operational satellite oceanographic data by state, Federal, regional governmental, and non-profit entities. The program is seeking proposals in each of the following research areas listed in priority order: (1) The application of satellite oceanographic data and information in support of coastal and oceanic marine resources management (living and non-living); (2) The application of satellite oceanographic data in fisheries and critical ecosystems research or monitoring applications (e.g., marine protected areas, essential fish habitat, early life recruitment and survival, stock assessment, protected species, important socio-economic interactions, and coral reefs); (3) Research leading to the development of innovative data archiving and data management techniques that may significantly simplify and improve user access to satellite oceanographic data, especially by users employing Internet access and geographic information systems (GIS) spatial analysis software technologies; (4) Research to increase the accuracy, precision and quantitative use of satellite oceanographic data in coastal and ocean surface research investigations (e.g., sea surface temperature, ocean color, ocean surface winds, sea level and surface height, and sea surface measurements derived from spaceborne synthetic aperture radar); (5) Research supporting the development of future ocean sensing capable U.S. satellite systems (e.g., the National Polar-Orbiting Operational Environmental Satellite System (NPOESS)); and (6) Research leading to improved coastal and oceanic climatologies using satellite oceanographic data. All proposals will be evaluated in the context of the potential value of the proposed work to a targeted user community (to be identified in the proposal), and the relationship of the proposed work to the NOAA/NESDIS mission (as described in the “General Information” section of this Notice).

Background

ORA provides overall guidance and direction to the research and application activities of NESDIS. ORA provides expert services to other NESDIS Offices and Centers relating to satellite sensor development, instrument performance, and systems hardware components. It coordinates with other NESDIS Offices and Centers, appropriate NOAA units, and U.S. Government agencies in the implementation and evaluation of operational and research satellite data and products that result from research activities. It coordinates research activities of mutual interest with the academic community, NASA laboratories, and with foreign organizations, particularly those in satellite operating countries. ORA provides advice to the Assistant Administrator concerning interfaces among the Centers and Offices of NESDIS and among the major NOAA elements in relation to broad scale scientific projects. It also produces and provides specific programmatic studies, statistics, and scientific recommendations as needed.

Project Proposals

A signed original and two copies of each project proposal, must be sent to ORA by the date indicated in the “DATES” section of this Notice. Proposals received after that time and date will not receive consideration. In addition to the information requested below, the applicant must submit a complete NOAA grants application package (with signed originals,) and curriculum vitae (CV) for the principal investigator(s). All project proposals must include the sections identified below and total no more than eight pages in double-spaced, 12-point font format. The title page, detailed budget, investigator(s) CV, and any appendices are not included in the eight page limit. Proposals that exceed the eight page limit described here will be considered ineligible for consideration and shall be returned to the applicant. Multi-year proposals, in annual increments up to a maximum of three years, will be considered; however, funding beyond the first year will be dependent upon satisfactory performance and the continued availability of funds.

1. Title Page. The title page shall provide the project title, the name(s) of the lead Principal Investigator (PI), Partner name(s) if any, the respective affiliations, complete addresses, telephone, FAX, and e-mail information. The title page will also present the total proposed cost, the proposed budget period, and a brief abstract of the proposed work. The title page shall also identify the specific research area of interest (the one most relevant area from those listed by number in the “Program Description” in this Notice), and clearly identify that the proposal is in response to this Notice. The title page should be signed by the PI(s) and the institutional representative of the PI's organization.

2. Goals and Objectives. Identify broad project goals and quantifiable objectives.

3. Background/Introduction. State the problem and summarize existing efforts in the context of present knowledge and/or capabilities.

4. User Application Audience. Describe specifics of how the project will contribute to improving or resolving an issue with an identified primary target audience. The target audience must be explicitly stated.

5. Project Description/Methodology. Describe the specifics of the proposed project (4 pages maximum).

6. Project Partners. Identify any project partners, their respective roles, and their contributions/relationships to the proposed effort.

7. Milestones and Outcomes. List target milestones, time lines, and desired outcomes (in multi-year proposed efforts, by year). The potential value of the proposed work to the identified target audience's needs should be identified in this section of the proposal.

8. Project Budget. Provide a detailed budget breakdown by category (and in multi-year proposed efforts, by year) and a brief narrative to provide the basis for the budget. For accounting purposes, do not include NOAA sub-award funds in the budget information on grant application forms (SF424, SF424a).

Selection Process

A project selection panel will be convened to review and to provide recommendations on selection using the criteria published in these guidelines. Each proposal will be reviewed by at least three reviewers who are qualified to review the proposed work. These reviewers may include both Federal and non-Federal individuals each of whom will independently review and rank the proposal. No more than one reviewer (of the three) may be from the Oceanic Research and Applications Division. Proposals will be ranked according to a score (explained below) and presented to the Selecting Official (the Chief, Oceanic Research and Applications Division) for final selection. In addition to the individual proposal rankings assigned by the panel, the Selecting Official may consider the following program policy factors: balance among the prioritized research areas of programmatic interest described in the “Program Description” section of this Notice, and (for cooperative agreements that have substantial ORA involvement) geographic location in making a final decision.

Selection Criteria (With Weights)

All proposals will be scored by the panel members individually according to the following criteria:

Criteria

1. Relevance of the Proposed Research to NESDIS and NOAA Missions (25 points)

Does the proposed project (directly or indirectly) address a critical need? Are the project goals and objectives clear and concise? Does the proposed project have a clearly defined user audience? Are there direct ties to relevant NESDIS, NOAA, Federal, regional, state or local activities?

2. Technical Merit (25 points)

Is the approach technically sound? Does the proposed project build on existing knowledge? Is the approach innovative?

3. Applicability and Effectiveness (20 points)

Does the proposed work have the potential of increasing the accessibility, usability (i.e., easily understood and used), and relevance of satellite observed oceanographic data and information by the identified target user community? Does the proposed work provide for flexible, early and effective opportunities for user involvement (e.g., through cooperative experiments, demonstrations, or user evaluations)? Does the proposed work have the potential for long-term (lasting) value and widespread applicability? Does the proposed work include an effective mechanism by which the project's progress can be evaluated?

4. Cost Efficiency (10 points)

Is the budget realistic and commensurate with the project needs? Does the budget narrative justify the proposed expenditures?

5. Meaningful Participation of Minority Serving Institution(s) (10 points)

Is there meaningful participation by an MSI in the proposed work? Are there subgrants, subcontracts or other partnership arrangements proposed with MSIs?

6. Overall Qualifications (10 points)

Are the proposers capable of conducting a project of the scope and scale proposed (i.e., scientific, professional, facility, and administrative resources/capabilities)? Are appropriate partnerships going to be employed to achieve the highest quality content and maximal efficiency?

Selection Schedule

Proposals submitted in response to this Notice will be reviewed according to the following schedule:

Proposals postmarked by—October 22, 2001

Final Selection—Approximately January 25, 2002

Grant start date—Approximately June 1, 2002

Funding Availability

Specific funding available for awards in response to this Notice will be finalized after the NOAA budget for FY 2002 is authorized. Total funding available for this Notice is anticipated to be approximately $400,000. Individual annual awards are expected to range from a minimum of $50,000 to $150,000. Successful proposals that are deemed by the selection panel to be exceptionally meritorious may be larger. There is no guarantee that sufficient funds will be available to make awards for all approved projects, nor that all research areas of interest will be supported. Publication of this Notice does not obligate NOAA toward any specific grant or cooperative agreement or to obligate all or any parts of the available funds.

Cost Sharing

There is no requirement for cost sharing in response to this program announcement and no additional weight will be given to proposals with cost sharing.

Eligibility Criteria

Eligible applications are institutions of higher education, non-profits, commercial organizations, state, local and Indian tribal governments. Federal agencies or institutions are eligible to receive Federal assistance under this Notice as sub-awardees, and are limited in the amount of assistance to be received to not more than twenty percent of the total budget (direct plus indirect costs) requested in the proposal. Proposals with Federal agency or institution sub-award amounts exceeding twenty percent of the total amount requested shall be considered ineligible, and will be returned to the applicant without being reviewed.

Note: Non-NOAA Federal agency or institution sub-awardees must demonstrate that they have legal authority to receive funds for the purpose of this program in excess of their appropriation. Because this announcement is not proposing to procure goods or services from another Federal agency, the Economy Act (31 U.S.C. 1535) is not an appropriate legal basis. Federally Funded Research and Development Centers (FFRDCs) and Government Owned and Operated Laboratories (GOCOs), are eligible to receive Federal assistance under this Notice as sub-awardees so long as the receipt of funds would be consistent with the legal authorities under which they were established and operate.

General Information for all Programs

Indirect Costs

The total dollar amount of the indirect costs proposed in an application under this program notice must not exceed the current indirect cost rate negotiated and approved by the applicant's cognizant Federal agency (prior to the proposed effective date of the award), or 35 percent of the total proposed direct costs dollar amount in the application, whichever is less. Proposals that include indirect costs exceeding 35 percent shall be considered ineligible for consideration under this Notice and shall be returned to the applicant.

Federal Policies and Procedures

Recipients and sub-recipients are subject to all Federal laws and Federal and DOC policies, regulations, and procedures applicable to Federal assistance awards.

Name Check Review

All non-profit and for-profit applicants are subject to a name check review process. Name checks are intended to reveal if any key individuals associated with the recipient have been convicted of, or are presently facing, criminal charges such as fraud, theft, perjury, or other matters that significantly reflect on the recipient's management skills, honesty, or financial integrity.

Past Performance

Unsatisfactory performance under prior Federal awards may result in an application not being considered for funding.

Pre-Award Activities

If applicants incur any costs prior to an award being made, they do so solely at their own risk of not being reimbursed by the Government. Notwithstanding any verbal or written assurance that may have been received, there is no obligation on the part of DOC to cover pre-award costs, should an award not be made or funded at a level less than requested.

No Obligation for Future Funding

If the application is selected for funding, DOC has no obligation to provide any additional future funding in connection with the award. Renewal of an award to increase funding or extend the period of performance is at the total discretion of DOC.

Delinquent Federal Debts

No award or Federal funds shall be made to an applicant who has an outstanding delinquent Federal debt until either:

(i) The delinquent account is paid in full,

(ii) A negotiated repayment schedule is established and at least one payment is received, or

(iii) Other arrangements satisfactory to DOC are made.

Primary Applicant Certifications

All organizations or individuals preparing grant applications must submit a completed Form CD-511 “Certifications Regarding Debarment, Suspension, and Other Responsibility Matters; Drug-Free Workplace Requirements and Lobbying”, and explanations are hereby provided:

Non-Procurement Debarment and Suspension

Prospective participants (as defined at 15 CFR part 26, Section 105) are subject to 15 CFR part 26, “Nonprocurement Debarment and Suspension” and the related section of the certification form prescribed above applies.

Drug-Free Workplace

Grantees (as defined at 15 CFR part 26, Section 605) are subject to 15 CFR part 26, subpart f, “Government-wide Requirements for Drug-Free Workplace (Grants)” and the related section of the certification form prescribed above applies.

Anti-Lobbying

Persons (as defined at 15 CFR part 28, section 105) are subject to the lobbying provisions of 31 U.S.C. 1352, “Limitation on use of appropriated funds to influence certain Federal contracting and financial transactions”, and the lobbying section of the certification form prescribed above applies to application/bids for grants, cooperative agreements, and contracts for more than $100,000, and loans and loan guarantees for more than $150,000.

Anti-Lobbying Disclosures

Any applicant that has paid or will pay for lobbying using any funds must submit an SF-LLL, “Disclosure of Lobbying Activities”, as required under 15 CFR part 28, Appendix B.

Lower-Tier Certifications

Recipients shall require applicants/bidders for sub-grants, contracts, subcontracts, or other lower-tier-covered transactions at any tier under the award to submit, if applicable, a completed Form CD-512, “Certifications Regarding Debarment, Suspension, Ineligibility and Voluntary Exclusion-Lower Tier Covered Transactions and Lobbying” and disclosure form, SF-LLL, “Disclosure of Lobbying Activities”. Form CD-512 is intended for the use of recipients and should not be transmitted to DOC. SF-LLL submitted by any tier recipient or sub-recipient should be submitted to DOC in accordance with the instructions contained in the award document.

False Statements

A false statement on an application is grounds for denial or termination of funds and grounds for possible punishment by a fine or imprisonment as provided in 18 U.S.C. 1001.

Buy American-Made Equipment or Products

Applicants are hereby notified that they will be encouraged, to the greatest extent practicable, to purchase American-made equipment and products with funding provided under this program in accordance with Congressional intent.

Classification

Executive Order 12866

This action has been determined to be not significant for purposes of Executive Order 12866.

Notwithstanding any other provision of law, no person is required to respond to, nor shall a person be subject to, a penalty for failure to comply with a collection of information subject to the requirements of the Paperwork Reduction Act (PRA) unless that collection of information displays a currently valid OMB control number. This notice contains a collection of information requirements subject to the Paperwork Reduction Act. The use of Standards Forms 424, 424A, 424B, and SF-LLL have been approved by OMB under the respective control numbers 0348-0043, 0348-0044, 0348-0040, and 0348-0046.

Dated: August 13, 2001.
Gregory W. Withee,
Assistant Administrator for Satellite and Information Services.

[FR Doc. 01-21137 Filed 8-21-01; 8:45 am]

BILLING CODE 3510-HR-P